SOCIAL SECURITY ADMINISTRATION

[Docket No. SSA-2008-0067]

Rate for Assessment on Direct Payment Fees to Representatives in 2009

AGENCY: Social Security Administration (SSA).

ACTION: Notice.

SUMMARY: We are announcing that the assessment percentage rate under sections 206(d) and 1631(d)(2)(C) of the Social Security Act (the Act), 42 U.S.C. 406 (d), and 1383(d)(2)(C) is 6.3 percent for 2009.

FOR FURTHER INFORMATION CONTACT: Gwen Jones Kelley, Acting Associate General Counsel for Program Law, Office of the General Counsel, Social Security Administration, 6401 Security Boulevard, Baltimore, MD 21235-6401. Phone: (410) 965-0495, e-mail Gwen.Jones.Kelley@ssa.gov.

SUPPLEMENTARY INFORMATION: Section 406 of Public Law No. 106-170, the Ticket to Work and Work Incentives Improvement Act of 1999, established an assessment for the services required to determine and certify payments to attorneys from the benefits due claimants under Title II of the Act. This provision is codified in section 206 of the Act (42 U.S.C. 406). That legislation set the assessment for the calendar year 2000 at 6.3 percent of the amount that would be required to be certified for direct payment to the attorney under sections 206(a)(4) or (b)(1) of the Act before the application of the assessment. For subsequent years, the legislation requires us to determine the percentage rate necessary to achieve full recovery of the costs of determining and certifying fees to attorneys, but not in excess of 6.3 percent. Beginning in 2005, sections 302 and 303 of Public Law No. 108-203, the Social Security Protection Act of 2004 (SSPA), extended the direct payment of fees to attorneys in cases under Title XVI of the Act and to eligible non-attorney representatives in cases under Title II or Title XVI of the Act. Fees directly paid under these provisions are subject to the same assessment. In addition, sections 301 and 302 of the SSPA imposed a dollar cap (i.e., currently $83.00) on the amount of the assessment so that the assessment may not exceed the lesser of that dollar cap or the amount determined using the assessment percentage rate.

Based on the best available data, we have determined that the current rate of 6.3 percent will continue for 2009. We will continue to review our costs for these services on a yearly basis.

Dated: December 19, 2008.
Mary Glenn-Croft,
Deputy Commissioner for Budget, Finance and Management.

[FR Doc. E8-31129 Filed 12-30-08; 8:45 am]

BILLING CODE 4191-02-P